ENVIRONMENTAL PROTECTION AGENCY

[ER-FRL-9052-1]

Environmental Impact Statements; Notice of Availability

Responsible Agency: Office of Federal Activities, General Information 202-564-5632 or https://www.epa.gov/nepa.

Weekly receipt of Environmental Impact Statements (EIS)

Filed July 20, 2020, 10 a.m. EST Through July 27, 2020, 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200149, Final, BLM, WY, Converse County Oil and Gas Project, Review Period Ends: 08/31/2020, Contact: Mike Robinson 307-261-7520.

EIS No. 20200150, Draft, BR, ID, Boise River Basin Feasibility Study, Comment Period Ends: 09/14/2020, Contact: Selena Morre 208-383-2207.

EIS No. 20200151, Final Supplement, USACE, MO, ADOPTION—Little Otter Creek Watershed Plan Final Supplemental Environmental Impact Statement, Contact: Matt Sailor 816-389-3197.

The Army Corps of Engineers (USACE) has adopted the Natural Resource Conservation Service Final Supplemental EIS No. 20200001, filed 12/23/2019 with EPA. USACE was a cooperating agency on this project. Therefore, recirculation of the document is not necessary under Section 1506.3(c) of the CEQ regulations.

EIS No. 20200152, Final, DOC, NAT, Summer Flounder Commercial Issues and Goals and Objectives Amendment: Amendment 21 to the Summer Flounder, Scup, and Black Sea Bass Fishery Management Plan, Review Period Ends: 08/31/2020, Contact: Emily Keiley 978-281-9116.

EIS No. 20200153, Final Supplement, FHWA, MI, I-94 Modernization Project in Detroit, MI from I-96 to Conner Avenue Combined FSEIS and Record of Decision and Final Section 4(f) Evaluation, Contact: Ruth Hepfer 517-702-1847.

Under 23 U.S.C. 139(n)(2), FHWA has issued a single document that consists of a final supplemental environmental impact statement and record of decision. Therefore, the 30-day wait/review period under NEPA does not apply to this action.

EIS No. 20200154, Draft Supplement, USACE, CA, American River Watershed Common Features, Water Resources Development Act of 2016 Project—Sacramento Weir Widening, Comment Period Ends: 09/14/2020, Contact: Robert Chase 916-557-7630.

EIS No. 20200155, Draft, USACE, FL, Collier County Coastal Storm Risk Management Draft Integrated Feasibility Study and Environmental Impact Statement, Comment Period Ends: 09/14/2020, Contact: Zachary Martin 757-201-7320.

EIS No. 20200156, Draft, BLM, NV, Thacker Pass Lithium Mine Project, Comment Period Ends: 09/14/2020, Contact: Ken Loda 775-623-1500.

EIS No. 20200157, Final, USFWS, CA, Proposed Habitat Conservation Plan and Incidental Take Permit Sierra Pacific Industries, Review Period Ends: 08/31/2020, Contact: Kim Turner 916-414-6606.

EIS No. 20200158, Final, BPA, BR, USACE, OR, Columbia River System Operations, Review Period Ends: 08/31/2020, Contact: Rebecca Weiss 800-290-5033.

Dated: July 27, 2020.
Cindy S. Barger,
Director, NEPA Compliance Division, Office of Federal Activities.

[FR Doc. 2020-16626 Filed 7-30-20; 8:45 am]

BILLING CODE 6560-50-P